DEPARTMENT OF ENERGY

Federal Energy Regulatory Commission

Casco Bay Energy Company, LLC, Duke Energy Oakland, LLC, Duke Energy Trenton, LLC, Duke Energy South Bay, LLC, Duke Energy Morro Bay, LLC, and Duke Energy Moss Landing, LLC; Notice of Filing

August 28, 2000.

Take notice that Casco Bay Energy Company, LLC, Duke Energy Oakland, LLC, Duke Energy Trenton, LLC, Duke Energy South Bay, LLC, Duke Energy Morro Bay, LLC, and Duke Energy Moss Landing, LLC (collectively the Applicants) filed on August 23, 2000, an amended request for approval of the disposition of jurisdictional assets that may result from the transfer of the Applicants' limited liability company membership interests among the Applicants' upstream affiliates.

Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions and protests should be filed on or before September 7, 2000. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance).

Linwood A. Watson, Jr.,
Acting Secretary.

[FR Doc. 00-22474 Filed 8-31-00; 8:45 am]

BILLING CODE 6717-01-M